ENVIRONMENTAL PROTECTION AGENCY

40 CFR Part 180

[EPA-HQ-OPP-2020-0053; FRL-10016-93]

Receipt of Several Pesticide Petitions Filed for Residues of Pesticide Chemicals in or on Various Commodities (October 2020)

Correction

In proposed rule document 2020-28117 appearing on pages 82998 through 83000 in the issue of Monday, December 21, 2020, make the following correction:

(1) On page 82998, in the second column, in the DATES section, change “January 20, 2021” to read “January 21, 2021.”

[FR Doc. C1-2020-28117 Filed 1-12-21; 8:45 am]

BILLING CODE 1301-00-D